ENVIRONMENTAL PROTECTION AGENCY

[EPA-HQ-OECA-2013-0667; FRL-9901-14-OECA]

Proposed Information Collection Request; Comment Request; Annual Public Water System Compliance Report

AGENCY: Environmental Protection Agency (EPA).

ACTION: Notice.

SUMMARY: The Environmental Protection Agency is planning to submit an information collection request (ICR), “Annual Public Water System Compliance Report” (EPA ICR No. 1812.05, OMB Control No. 2020-2020) to the Office of Management and Budget (OMB) for review and approval in accordance with the Paperwork Reduction Act (44 U.S.C. 3501 et seq.). Before doing so, EPA is soliciting public comments on specific aspects of the proposed information collection as described below. This is a proposed extension of the ICR, which is currently approved through March 31, 2014. An Agency may not conduct or sponsor and a person is not required to respond to a collection of information unless it displays a currently valid OMB control number.

DATES: Comments must be submitted on or before November 18, 2013.

ADDRESSES: Submit your comments, referencing Docket ID No. EPA-HQ-OECA-2013-0667, online using www.regulations.gov (our preferred method), by email to docket.oeca@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Joyce Chandler, Monitoring, Assistance and Media Programs Division, Office of Compliance, MC-2227A, Environmental Protection Agency, 1200 Pennsylvania Ave. NW., Washington, DC 20460; telephone number: (202) 564-7073; fax number: (202) 564-0050; email address: chandler.joyce@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Docket ID Number: EPA-HQ-OECA-2013-0667; Title: Annual Public Water Systems Compliance Report; ICR Numbers: EPA ICR Number 1812.05, OMB Control Number 2020-2020; ICR Status: This ICR is scheduled to expire on March 31, 2014.

Abstract: Section 1414(c)(3)(A) of the Safe Drinking Water Act (SDWA) requires that each state (a term that includes states, commonwealths, tribes and territories) that has primary enforcement authority under the SDWA shall prepare, make readily available to the public, and submit to the Administrator of EPA, an annual report of violations of national primary drinking water regulations in the state. These Annual State Public Water System Compliance Reports are to include violations of maximum contaminant levels, treatment requirements, variances and exemptions, and monitoring requirements determined to be significant by the Administrator after consultation with the states. To minimize a state's burden in preparing its annual statutorily-required report, EPA issued guidance that explains what Section 1414(c)(3)(A) requires and provides model language and reporting templates. EPA also annually makes available to the states a computer query that generates for each state (from information states are already separately required to submit to EPA's national database on a quarterly basis) the required violations information in a table consistent with the reporting template in EPA's guidance.

Form Numbers: None.

Respondents/affected Entities: Entities potentially affected by this action are States that have primacy enforcement authority and meet the definition of “state” under the SDWA.

Respondent's Obligation To Respond: mandatory (Section 1414 1414(c)(3)(A) of the SDWA)

Estimated Number of Respondents: 55 (total).

Frequency of Response: Annually.

Total Estimated Burden: 4,400 hours hours (per year). Burden is defined at 5 CFR 1320.3(b).

Total Estimated Cost: $232,303 (per year), includes $0 annualized capital or operation & maintenance costs.

Changes in Estimates: There is no change of hours in the total estimated respondent burden compared with the ICR currently approved by OMB. The universe of respondents remains the same.

Dated: September 10, 2013.
Sherry Sterling,
Acting Director, Office of Compliance.

[FR Doc. 2013-22746 Filed 9-17-13; 8:45 am]

BILLING CODE 6560-50-P